DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Social and Economic Supplement to the Current Population Survey.

Form Number(s): CPS-580 (ASEC), CPS-580 (ASEC)SP, CPS-676, CPS-676(SP).

OMB Control Number: 0607-0354.

Type of Request: Revision of a currently approved collection.

Burden Hours: 32,500.

Number of Respondents: 78,000.

Average Hours per Response: 25 minutes.

Needs and Uses: The purpose of this request for review is to obtain clearance for the Annual Social and Economic Supplement (ASEC), which we will conduct in conjunction with the February, March, and April Current Population Survey (CPS). The U.S. Census Bureau has conducted this supplement annually for over 60 years. The Census Bureau, the Bureau of Labor Statistics (BLS), and the Department of Health and Human Services (HHS) sponsor this supplement.

The proposed supplement contains the same items that were in the 2009 ASEC instrument, with the exceptions described here:

(1) Additional questions are added concerning presence of mortgage, medical expenditures, child support paid, and child care paid.

(2) Questions on welfare reform (SWR1—SWR18) are no longer included.

On June 17, 2009, Congressman McDermott introduced the Measuring American Poverty Act of 2009. Under this legislation, the Census Bureau will be asked to produce estimates under a modernized poverty measure that includes several threshold and resource components that are not included in the ASEC. The new items in the ASEC for 2010 help to implement this modernized poverty measure.

Affected Public: Individuals or households.

Frequency: Annually.

Respondent's Obligation: Voluntary.

Legal Authority: Title 13, United States Code, section 182, and Title 29, United States Code, sections 1-9.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: October 9, 2009.
Glenna Mickelson,
Management Analyst, Office of the Chief Information Officer.

[FR Doc. E9-24747 Filed 10-14-09; 8:45 am]

BILLING CODE 3510-07-P